DEPARTMENT OF TRANSPORTATION

Federal Aviation Administration

14 CFR Part 39

[Docket No. FAA-2004-19562; Directorate Identifier 2004-NM-73-AD]

RIN 2120-AA64

Airworthiness Directives; Aerospatiale Model ATR 42-200, -300, and -320 Series Airplanes

AGENCY: Federal Aviation Administration (FAA), DOT.

ACTION: Notice of proposed rulemaking (NPRM).

SUMMARY: The FAA proposes to adopt a new airworthiness directive (AD) for all Aerospatiale Model ATR 42-200, -300, and -320 series airplanes. This proposed AD would require inspecting to determine the part and serial number of the swinging lever of the main landing gears (MLG) and replacing the swinging lever if necessary. This proposed AD is prompted by a report that, on an airplane lined up for takeoff, the swinging lever of the left MLG collapsed when engine power was applied. We are proposing this AD to prevent fracture of the MLG swinging lever, which could result in collapse of the swinging lever and reduced structural integrity and possible collapse of the MLG during operations on the ground.

DATES: We must receive comments on this proposed AD by December 10, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Aerospatiale, 316 Route de Bayonne, 31060 Toulouse, Cedex 03, France.

You can examine the contents of this AD docket on the Internet at http://dms.dot.gov, or in person at the Docket Management Facility, U.S. Department of Transportation, 400 Seventh Street SW, room PL-401, on the plaza level of the Nassif Building, Washington, DC. This docket number is FAA-2004-19562; the directorate identifier for this docket is 2004-NM-73-AD.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19562; Directorate Identifier 2004-NM-73-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is on the plaza level of the Nassif Building at the DOT street address stated in the ADDRESSES section. Comments will be available in the AD docket shortly after the DMS receives them.

Discussion

The Direction Generale de l'Aviation Civile (DGAC), which is the airworthiness authority for France, notified us that an unsafe condition may exist on certain Aerospatiale Model ATR 42-200, -300, and -320 series airplanes. The DGAC advises that, on an airplane lined up for takeoff, the swinging lever of the left main landing gear (MLG) collapsed when engine power was applied. Investigation revealed abnormally high concentrations of silicium (silicon) in the cracked area of the swinging lever. Similar defects were found in other levers of the same batch. This condition, if not corrected, could cause fracture of the MLG swinging lever, which could result in collapse of the swinging lever and reduced structural integrity and possible collapse of the MLG during operations on the ground.

Relevant Service Information

Aerospatiale has issued Job Instruction Card (JIC) 32-11-00 RAI 10030-001, dated February 1, 2000, to the Avions de Transport Regional Aircraft Maintenance Manual. The JIC describes procedures for replacing the swinging lever of the MLG with a new or serviceable swinging lever. Accomplishing the actions specified in the service information is intended to adequately address the unsafe condition. The DGAC mandated the service information and issued French airworthiness directive 2003-376(B), dated October 1, 2003, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. According to this bilateral airworthiness agreement, the DGAC has kept the FAA informed of the situation described above. We have examined the DGAC's findings, evaluated all pertinent information, and determined that AD action is necessary for products of this type design that are certificated for operation in the United States.

Therefore, we are proposing this AD, which would require inspecting to determine the part number and serial number of the swinging lever of the MLG and replacing the swinging lever with a new or serviceable swinging lever, if necessary. The proposed AD would require you to use the service information described previously to perform the replacement, except as discussed under “Differences Between the Proposed AD and French Airworthiness Directive.”

Differences Between the Proposed AD and French Airworthiness Directive

Though French airworthiness directive 2003-376(B) limits its applicability to Model ATR 42-200, -300, and -320 series airplanes having MLGs currently equipped with a swinging lever part number (P/N) D56771, we have determined that a swinging lever P/N D56771 could be installed in the future on an airplane not currently equipped with a lever having that part number. Therefore, this proposed AD would be applicable to all Model ATR 42-200, -300, and -320 series airplanes and would prohibit installing a swinging lever having a subject P/N and serial number on any of these airplanes.

Though French airworthiness directive 2003-376(B) specifies that operators shall report certain inspection findings to Messier-Dowty, this proposed AD would not require this.

Though French airworthiness directive 2003-376(B) specifies that operators shall return swinging levers with applicable serial numbers to Messier-Dowty for discard, this proposed AD would not require this.

Costs of Compliance

This proposed AD would affect about 24 airplanes of U.S. registry. The proposed inspection would take about 1 work hour per airplane, at an average labor rate of $65 per work hour. Based on these figures, the estimated cost of the proposed AD for U.S. operators is $1,560, or $65 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Aerospatiale: Docket No. FAA-2004-19562; Directorate Identifier 2004-NM-73-AD.

Comments Due Date

(a) The Federal Aviation Administration must receive comments on this AD action by December 10, 2004.

Affected ADs

(b) None.

Applicability

(c) This AD applies to all Aerospatiale Model ATR 42-200, -300, and -320 series airplanes; certificated in any category.

Unsafe Condition

(d) This AD was prompted by a report that, on an airplane lined up for takeoff, the swinging lever of the left MLG collapsed when engine power was applied. We are issuing this AD to prevent fracture of the MLG swinging lever, which could result in collapse of the swinging lever and reduced structural integrity and possible collapse of the MLG during operations on the ground.

Compliance

(e) You are responsible for having the actions required by this AD performed within the compliance times specified, unless the actions have already been done.

Inspection To Determine Part and Serial Numbers

(f) Within 30 days after the effective date of this AD, inspect to determine the part number (P/N) and serial number (S/N) of the swinging lever of the MLG.

(1) If the P/N of the swinging lever is not D56771; or if the P/N of the swinging lever is D56771 but the S/N is not from 115 to 151 inclusive; no further action is required by this paragraph.

(2) If the P/N of the swinging lever is D56771 and the S/N is from 115 to 151 inclusive, within 90 days after the effective date of this AD: Remove the swinging lever and replace it with a new or serviceable lever in accordance with Job Instruction Card 32-11-00 RAI 10030-001, dated February 1, 2000, to the Avions de Transport Regional Aircraft Maintenance Manual.

No Reporting Requirement

(g) Though French airworthiness directive 2003-376(B), dated October 1, 2003, specifies that operators shall report certain inspection findings to Messier-Dowty, this AD does not require this.

Disposition of Swinging Levers

(h) Though French airworthiness directive 2003-376(B), dated October 1, 2003, specifies that operators shall return swinging levers with applicable serial numbers to Messier-Dowty for discard, this AD does not require this.

Parts Installation

(i) As of the effective date of this AD, no person may install on any airplane an MLG swinging lever, P/N D56771, having a S/N from 115 to 151 inclusive.

Alternative Methods of Compliance (AMOCs)

(j) The Manager, International Branch, ANM-116, Transport Airplane Directorate, FAA, has the authority to approve AMOCs for this AD, if requested in accordance with the procedures found in 14 CFR 39.19.

Related Information

(k) French airworthiness directive 2003-376(B), dated October 1, 2003, also addresses the subject of this AD.

Issued in Renton, Washington, on November 1, 2004.
Kalene C. Yanamura,
Acting Manager, Transport Airplane Directorate, Aircraft Certification Service.

[FR Doc. 04-25032 Filed 11-9-04; 8:45 am]

BILLING CODE 4910-13-P